DEPARTMENT OF HOMELAND SECURITY

[Docket No. DHS-2011-0059]

Agency Information Collection Activities: Submission for Review; Information Collection Request for the Department of Homeland Security (DHS), Science and Technology, Biodefense Knowledge Center (BKC)

AGENCY: Science and Technology Directorate, DHS.

ACTION: 60-day Notice and request for comment.

SUMMARY: The Department of Homeland Security (DHS), Science & Technology (S&T) Directorate invites the general public to comment on data collection forms for the Biodefense Knowledge Center (BKC) program. BKC is responsible for coordinating the collection of Life Sciences Subject Matter Experts (SMEs) information with the Office of the Director of National Intelligence (ODNI), which operates under the authority of the National Security act of 1947, as amended by the Intelligence Reform and Terrorism Prevention Act of 2004. These authorities charge the ODNI with responsibility to coordinate and rationalize the activities of the Intelligence Community components. The SME information is necessary to understand who can provide scientific expertise for peer review of life science programs. In addition, the directory makes it easier to identify scientific specialty areas for which there is a shortage of Subject Matter Experts (SMEs) with appropriate security clearances.

The DHS invites interested persons to comment on the following form and instructions (hereinafter “Forms Package”) for the S&T BKC: (1) Subject Matter Expert Registration Form (DHS FORM 10043 (2/08)). Interested persons may receive a copy of the Forms Package by contacting the DHS S&T PRA Coordinator. This notice and request for comments is required by the Paperwork Reduction Act of 1995 (Pub. L. 104-13, 44 U.S.C. chapter 35).

DATES: Comments are encouraged and will be accepted until September 20, 2011.

ADDRESSES: Interested persons are invited to submit comments, identified by docket number DHS-2011- 0059, by one of the following methods:

• Federal eRulemaking Portal: http://www.regulations.gov. Please follow the instructions for submitting comments.

• E-mail: Daniel.Purcell@dhs.gov. Please include docket number DHS-2011-0059 in the subject line of the message.

• Fax: (202) 254-6171. (Not a toll-free number).

• Mail: Science and Technology Directorate, ATTN: Chief Information Office—Daniel Purcell, 245 Murray Drive, Mail Stop 0202, Washington, DC 20528.

FOR FURTHER INFORMATION CONTACT: DHS S&T PRA Coordinator Daniel Purcell (202) 254-5664 (Not a toll free number).

SUPPLEMENTARY INFORMATION: The information will be collected via the DHS S&T BKC secure Web site at https://bkms.llnl.gov/sme. The BKC Web site will only employ secure Web-based technology (i.e., electronic registration form) to collect information from users to both reduce the burden and increase the efficiency of this collection.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: Renewal of information collection.

(2) Title of the Form/Collection: Science and Technology, Biodefense Knowledge Center (BKC) program.

(3) Agency Form Number, if any, and the applicable component of the Department of Homeland Security sponsoring the collection: Department of Homeland Security, Science & Technology Directorate—(1) Subject Matter Expert Registration Form (DHS FORM 10043 (2/08)).

(4) Affected public who will be asked or required to respond, as well as a brief abstract: The Subject Matter Experts (SME) information is necessary to understand who can provide scientific expertise for peer review of life science programs. The directory makes it easier to identify scientific specialty areas for which there is a shortage of SMEs with appropriate security clearances. SME contact information, scientific expertise, and level of education is collected electronically through a Web portal developed by DHS S&T. The SME information is shared with U.S. Government program managers and other members of the biodefense community who have a legitimate need to identify life sciences SMEs. Cleared SMEs are necessary to accomplish scientific reviews and attend topical meetings.

(5) An estimate of the total number of respondents and the amount of time estimated for an average respondent to respond:

a. Estimate of the total number of respondents: 4,000.

b. An estimate of the time for an average respondent to respond: 0.25 burden hours.

c. An estimate of the total public burden (in hours) associated with the collection: 1,000 burden hours.

Dated: July 13, 2011.
Tara O'Toole,
Under Secretary for Science and Technology.

[FR Doc. 2011-18621 Filed 7-21-11; 8:45 am]

BILLING CODE 9110-9F-P